DEPARTMENT OF DEFENSE

Department of the Army; Corps of Engineers

Notice of Availability of the Draft Environmental Impact Statement (DEIS) for the Installation of a Terminal Groin Structure at the Eastern End of Ocean Isle Beach, Extending Into the Atlantic Ocean, West of Shallotte Inlet (Brunswick County, NC)

AGENCY: Department of the Army, U.S. Army Corps of Engineers, DoD.

ACTION: Changes to public hearing and comment period end dates.

SUMMARY: The comment period for the DEIS published in the Federal Register on January 23, 2015, required comments be submitted on or before March 9, 2015. The DEIS comment period has been changed to March 16, 2015. Additionally, the Public Hearing date has been changed to March 3, 2015.

FOR FURTHER INFORMATION CONTACT: Questions about the proposed action and DEIS can be directed to Mr. Tyler Crumbley, Wilmington Regulatory Field Office, telephone: (910) 251-4170, facsimile (910) 251-4025, or email at tyler.crumbley@usace.army.mil.

SUPPLEMENTARY INFORMATION: None.

Brenda S. Bowen,
Army Federal Register Liaison Officer.

[FR Doc. 2015-01761 Filed 1-29-15; 8:45 am]

BILLING CODE 3720-58-P